DEPARTMENT OF ENERGY

Federal Energy Regulatory Commission

[Docket No. CP03-6-000]

CenterPoint Energy Gas Transmission Company; Notice of Request Under Blanket Authorization

October 16, 2002.

Take notice that on October 9, 2002, Centerpoint Energy Gas Transmission Company (CEGT), formerly Reliant Energy Gas Transmission Company, whose main office is located at 1111 Louisiana Street, Houston, Texas 77210, filed in Docket No. CP03-6-000, a request pursuant to 157.205 and 157.208 (18 CFR sections 157.205 and 157.208) of the Commission's Regulations under the Natural Gas Act (NGA), for authorization to acquire, own, and operate certain pipeline facilities and to construct facilities, all as more fully set forth in the Application, which is on file with the Commission and open to public inspection. This filing is available for review at the Commission in the Public Reference Room or may be viewed on the Commission's website at http://www.ferc.gov using the “FERRIS” link. Enter the docket number excluding the last three digits in the docket number field to access the document. For Assistance, call (202)502-8222 or for TTY, (202) 502-8659

Specifically, CEGT proposes to acquire approximately 28.97 miles of interstate pipeline facilities owned by Ozark Gas Transmission, L.L.C. (Ozark) located in Pittsburg and Latimer Counties, Oklahoma, including 28.32 miles of 20-inch diameter pipeline, approximately 0.65 miles of smaller diameter pipelines, and other appurtenant facilities. Additionally, CEGT proposes to construct approximately 2,600 feet of 20-inch diameter pipe and related pigging and measurement facilities, to connect the Ozark facilities to CEGT's system. The estimated cost of this project is $12,508,612. CEGT's filing is related to Ozark's abandonment application filed on August 23, 2002 in Docket No. CP02-428-000.

Any questions concerning this request may be directed to Lawrence O. Thomas, Director, Rate and Regulatory, CenterPoint Energy Gas Transmission Company, 525 Milam Street, Shreveport, Louisiana 71111 at (318) 429-2804.

Any person or the Commission's staff may, within 45 days after issuance of the instant notice by the Commission, file pursuant to Rule 214 of the Commission's Procedural Rules (18 CFR 385.214) a motion to intervene or notice of intervention and, pursuant to section 157.205 of the Regulations under the Natural Gas Act (18 CFR 157.205), a protest to the request. If no protest is filed within the time allowed therefor, the proposed activity shall be deemed to be authorized effective the day after the time allowed for filing a protest. If a protest is filed and not withdrawn within 30 days after the allowed time for filing a protest, the instant request shall be treated as an application for authorization pursuant to Section 7 of the Natural Gas Act.

Comments, protests and interventions may be filed electronically via the Internet in lieu of paper. The Commission strongly encourages electronic filings. See, 18 CFR 385.2001(a)(1)(iii) and the instructions on the Commission's web site under the “e-Filing” link.

Linwood A. Watson, Jr.,
Deputy Secretary.

[FR Doc. 02-26939 Filed 10-22-02; 8:45 am]

BILLING CODE 6717-01-P